NATIONAL CREDIT UNION ADMINISTRATION

Submission for OMB Review; Comment Request

AGENCY: National Credit Union Administration (NCUA).

ACTION: Notice.

SUMMARY: The National Credit Union Administration (NCUA) will submit the following information collection request to the Office of Management and Budget (OMB) for review and clearance in accordance with the Paperwork Reduction Act of 1995, Public Law 104-13, on or after the date of publication of this notice.

DATES: Comments should be received on or before September 19, 2016 to be assured of consideration.

ADDRESSES: Send comments regarding the burden estimate, or any other aspect of the information collection, including suggestions for reducing the burden, to (1) Office of Information and Regulatory Affairs, Office of Management and Budget, Attention: Desk Officer for NCUA, New Executive Office Building, Room 10235, Washington, DC 20503, or email at OIRA_Submission@OMB.EOP.gov and (2) NCUA PRA Clearance Officer, 1775 Duke Street, Alexandria, VA 22314-3428 or email at PRAComments@ncua.gov.

FOR FURTHER INFORMATION CONTACT: Copies of the submission may be obtained by emailing PRAComments@ncua.gov or viewing the entire information collection request at www.reginfo.gov.

SUPPLEMENTARY INFORMATION:

OMB Number: 3133-0067.

Type of Review: Revision of a currently approved collection.

Title: Corporate Credit Union Monthly Call Report.

Form: Form 5310.

Abstract: NCUA is modifying the instrument for collecting call report data from corporate credit unions. This information is currently collected through a standalone application that requires manual input of data by respondents. NCUA is updating its systems to allow this information to be provided through an online portal in a way that allows respondents to automate the submission of this data. This will significantly reduce the burden associated with this collection. Through this action, the NCUA is also combining two currently approved collections—the monthly call report (OMB Number 3133-0067) and the annual report of officials (OMB Number 3133-0053). These collections will both be submitted through the same online portal and the combination of the two collections under a single control number is consistent with the treatment of this data for natural person credit unions (OMB Number 3133-0004).

Affected Public: Private Sector: Businesses or other for-profits.

Estimated Annual Burden Hours: 588.

By Gerard Poliquin, Secretary of the Board, the National Credit Union Administration, on August 11, 2016.

Dated: August 11, 2016.
Troy S. Hillier,
NCUA PRA Clearance Officer.

[FR Doc. 2016-19500 Filed 8-17-16; 8:45 am]

BILLING CODE 7535-01-P